DEPARTMENT OF HOMELAND SECURITY

Federal Emergency Management Agency

Radiological Emergency Preparedness: Planning and Preparing for a Fast-Breaking Event; Notice of Extension of Comment Period

AGENCY: Federal Emergency Management Agency (FEMA), Emergency Preparedness and Response Directorate, Department of Homeland Security.

ACTION: Notice of extension of comment period.

SUMMARY: On August 19, 2003, FEMA published a notice with request for comments on Radiological Emergency Preparedness: Planning and Preparing for a Fast-Breaking Event, 68 FR 49783. With this notice, FEMA extends the comment period until December 5, 2003.

DATES: This notice is effective October 23, 2003. FEMA must receive comments on or before December 5, 2003.

ADDRESSES: Please send your comments to the Rules Docket Clerk, Office of the General Counsel, FEMA, Room 840, 500 C Street, SW., Washington, DC 20472; or e-mail to rules@fema.gov. Please reference “REP: Planning and Preparing for a Fast-Breaking Event” in the subject line of your comment letter or e-mail.

FOR FURTHER INFORMATION CONTACT: Vanessa E. Quinn, Chief, Radiological Emergency Preparedness Section, Nuclear and Chemical Hazards Division, FEMA, 500 C Street, SW., Washington, DC 20472; (phone) 202-646-3664; or e-mail vanessa.quinn@dhs.gov.

SUPPLEMENTARY INFORMATION: On August 19, 2003, FEMA published a notice with request for comments on Radiological Emergency Preparedness: Planning and Preparing for a Fast-Breaking Event, 68 FR 49783. With this notice, FEMA extends the comment period until December 5, 2003.

Dated: October 20, 2003.
R. David Paulison,
Director of Preparedness Division, Emergency Preparedness and Response, Department of Homeland Security.

[FR Doc. 03-26775 Filed 10-20-03; 2:40 pm]

BILLING CODE 6718-06-P